DEPARTMENT OF AGRICULTURE

Submission for OMB Review; Comment Request

April 13, 2020.

The Department of Agriculture has submitted the following information collection requirement(s) to OMB for review and clearance under the Paperwork Reduction Act of 1995. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 18, 2020 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Farm Service Agency

Title: Farm Loan Program—Inventory Property Management.

OMB Control Number: 0560-0234.

Summary of Collection: The Farm Loan Program provides supervised credit in the form of loans to family farmers to purchase real estate and equipment and finance agricultural production. Authority to establish the regulatory requirements contained in 7 CFR 767 is provided under section 302 of the Act (7 U.S.C. 1922) which provides that “the Secretary is authorized to make and insure under this title to farmers . . .” Section 339 of the Act (7 U.S.C. 1989) further provides that “the Secretary is authorized to make such rules and regulations, prescribe the terms and conditions for making . . . loans, security instruments and agreements, except as otherwise specified herein, and to make such delegations of authority as he deems necessary to carry out this title.” The Secretary delegated authority to administer the provisions of the Act applicable to FLP to the Under Secretary for Farm and Foreign Agricultural Services (FFAS) in section 2.16 of 7 CFR part 2. FFAS further delegated this authority to the FSA Administrator in section 2.42 of 7 CFR part 2.

Need and Use of the Information: Information collections are submitted by applicants to the local agency office serving the country in which their business is headquartered. The information is necessary to thoroughly evaluate an applicant's request to purchase inventory property and is used by the agency to determine an applicant's eligibility to lease or purchase inventory property and to ensure payment of the lease or purchase amount. Failure to collect the information would result in the agency not complying with congressional mandates.

Description of Respondents: Business or other for-profit; Farms.

Number of Respondents: 239.

Frequency of Responses: Reporting: On occasion; Annually.

Total Burden Hours: 136.

Ruth Brown,
Departmental Information Collection Clearance Officer.

[FR Doc. 2020-08044 Filed 4-15-20; 8:45 am]

BILLING CODE 3410-05-P